DEPARTMENT OF THE INTERIOR

Bureau of Land Management

[L13200000 DS0000 LXSSK1700000 19X LLWYP07000]

Notice of Availability for the Draft Supplemental Environmental Impact Statement and Potential Amendment for the Approved Resource Management Plan for the Buffalo Field Office, Wyoming

AGENCY: Bureau of Land Management, Interior.

ACTION: Notice of availability.

SUMMARY: In accordance with the National Environmental Policy Act of 1969, as amended, and the Federal Land Policy and Management Act of 1976, as amended, the Bureau of Land Management (BLM) Wyoming Buffalo Field Office is preparing a Supplemental Environmental Impact Statement (EIS) for the 2015 Buffalo Field Office Approved Resource Management Plan (RMP). This effort is in response to a United States District Court of Montana opinion and order (Western Organization of Resource Councils, et al. v. BLM). By this notice, the BLM is announcing the opening of the public comment period on the Draft Supplemental EIS.

DATES: To ensure that we can adequately consider all comments, the BLM must receive written comments by August 15, 2019. During the public comment period, the BLM will hold a public meeting to discuss the project with interested parties. The BLM will announce this meeting through local news media, newsletters, our ePlanning website (http://go.usa.gov/xP6S3), and the BLM website (http://www.blm.gov/wyoming) at least 15 days prior to the meeting.

ADDRESSES: You may submit comments related to the Draft Supplemental EIS by any of the following methods:

• Website: http://go.usa.gov/xP6S3.

• Email: blm_wy_bfo_coal_seis@blm.gov.

• Mail: Buffalo RMP SEIS, Attn: Thomas Bills, Project Manager, BLM Buffalo Field Office, 1425 Fort Street, Buffalo, WY 82834.

FOR FURTHER INFORMATION CONTACT: For further information or to have your name added to our mailing list, contact Thomas (Tom) Bills, RMP Supplemental EIS Project Manager; Telephone 307-684-1133; or at the above mailing address or email. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: The 2015 Buffalo Approved RMP provides a single, comprehensive land use plan that guides management of BLM-administered lands and minerals in the Buffalo Field Office, which consists of approximately 800,000 acres of BLM surface land and 4.7 million acres of BLM mineral estate in Campbell, Johnson, and Sheridan counties in north-central Wyoming.

Based on the court decision Western Organization of Resource Councils, et al. v. BLM (CV 16-21-GF-BMM; 3/23/2018 and 7/31/2018); feedback from cooperating agencies and stakeholders; and public scoping, the BLM developed and analyzed a No Action Alternative and an Action Alternative, which are detailed in the Draft Supplemental EIS. The alternatives focus solely on the leasing of BLM-administered coal, in response to the court order.

The No Action Alternative represents the decision area from the 2015 RMP and brings forward all management decisions that precluded coal development in the 2015 RMP. It relies on the decisions from the 2001 coal screening process that informed the 2015 RMP, but uses an updated 2018 coal production baseline. The BLM also used the 2019 U.S. Energy Information Administration development forecast to project development over the 20-year planning period. The No Action Alternative covers a total area of approximately 968,252 acres, including approximately 59.324 billion tons of BLM-administered coal reserves.

The Action Alternative also uses the 2018 coal production baseline and the 2019 U.S. Energy Information Administration development forecast. In addition, the Action Alternative applies new coal screens (as described in 43 CFR 3420.1-4(e)), considers new scientific and GIS data, and evaluates issues identified through internal and public scoping. Based on these factors, the Action Alternative area contains approximately 328,578 acres, including approximately 37.345 billion tons of BLM-administered coal reserves.

Before including your address, phone number, email address, or other personal identifying information in your comment, you should be aware that your entire comment—including your personal identifying information—may be made publicly available at any time. While you can ask us in your comment to withhold your personal identifying information from public review, we cannot guarantee that we will be able to do so.

Authority: 43 CFR 1610.2(c) and 3420.1-2.

Mary Jo Rugwell,
Wyoming State Director.

[FR Doc. 2019-10289 Filed 5-16-19; 8:45 am]

BILLING CODE 4310-22-P